DEPARTMENT OF THE INTERIOR

Fish and Wildlife Service

[FWS-R4-ES-2013-N030; 40120-1112-0000-F2]

Incidental Take Permit Amendment and Supplemental Environmental Assessment for Wind Energy Development, Guayanilla, Puerto Rico

AGENCY: Fish and Wildlife Service, Interior.

ACTION: Notice.

SUMMARY: Under the Endangered Species Act (Act), we, the U.S. Fish and Wildlife Service, announce the receipt and availability of a revised habitat conservation plan (revised HCP) and accompanying documents for wind energy development by San Francisco Wind Farm LLC (formerly WindMar R.E.) (Permittee). The revised HCP analyzes take of Puerto Rican crested toad (Peltophryne lemur) incidental to the previously authorized wind energy development activities in Guayanilla, Puerto Rico, so that this listed species might be added to those already covered by the existing incidental take permit (ITP). We invite public comments on these documents.

DATES: We must receive any written comments at our Regional Office (see ADDRESSES) on or before April 11, 2013.

ADDRESSES: Documents are available for public inspection by appointment during normal business hours at the Fish and Wildlife Service's Regional Office, 1875 Century Boulevard, Suite 200, Atlanta, GA 30345; or at the Caribbean Ecological Services Field Office, Fish and Wildlife Service, Road 301, Km. 5.1, Boquerón, PR 00622.

FOR FURTHER INFORMATION CONTACT: Mr. David Dell, Regional HCP Coordinator (see ADDRESSES), telephone: 404-679-7313; or Mr. José Cruz-Burgos, Endangered Species Coordinator, at the Caribbean Field Office (see ADDRESSES), telephone: 787-851-7297 extension 218.

SUPPLEMENTARY INFORMATION: We announce the availability of the revised HCP and supplemental environmental assessment (Supplemental EA), which analyzes the take of the threatened Puerto Rican crested toad. The Service previously advertised (71 FR 951), and issued in September 2006, TE104073 as a 40-year ITP authorizing incidental take of Puerto Rican nightjar (Caprimulgus noctitherus), brown pelican (Pelecanus occidentalis occidentalis), and roseate tern (Sterna dougallii dougallii).

The Permittee requests an amendment for the remaining term of the ITP under section 10(a)(1)(B) of the Act (16 U.S.C. 1531 et seq.), as amended. The Permittee's revised HCP describes the mitigation and minimization measures proposed to address the impacts to the Puerto Rican crested toad within the Punta Ventana section of the covered area.

We specifically request information, views, and opinions from the public via this notice on our proposed Federal action, including identification of any other aspects of the human environment not already identified in the supplemental EA pursuant to National Environmental Policy Act (NEPA) regulations in the Code of Federal Regulations (CFR) at 40 CFR 1506.6. Further, we specifically solicit information regarding the adequacy of the revised HCP per 50 CFR parts 13 and 17.

The supplemental EA assesses the likely environmental impacts associated with the implementation of the activities and proposed amendments, including the environmental consequences of the no-action alternative and the proposed action. The proposed action alternative is amendment of the ITP and implementation of the revised HCP as submitted by the Permittee. The revised HCP evaluates potential take of the Puerto Rican crested toad and presents conservation measures needed to add incidental take authority for this species to previously authorized incidental take associated with wind energy development.

Avoidance, minimization and mitigation measures include, but are not limited to: monitor Puerto Rican crested toad breeding events in order to adapt work plans and timing of covered activities while implementing measures to avoid and minimize take of dispersing toads and toadlets; install fencing to keep Puerto Rican crested toads outside of certain areas of the project; and mitigation measures such as trapping and removing non-native, invasive predators, competitors, and invasive vegetation, as well as conduct research and implement measures to enhance breeding habitat.

Public Comments

Before including your address, phone number, email address, or other personal identifying information in your comment, you should be aware that your entire comment—including your personal identifying information—may be made publicly available at any time. While you can ask us in your comment to withhold your personal identifying information from public review, we cannot guarantee that we will be able to do so.

If you wish to comment, you may submit comments by any one of several methods. Please reference TE104073 in such comments. You may mail comments to the Fish and Wildlife Service's Regional Office (see ADDRESSES). You may also comment via the internet to david_dell@fws.gov. Please include your name and return address in your internet message. If you do not receive a confirmation from us that we have received your internet message, contact us directly at either telephone number listed under FOR FURTHER INFORMATION CONTACT.

Finally, you may hand-deliver comments to either of our offices listed under ADDRESSES.

Covered Area

The ITP covers a 290-ha (725-acre) wind generation facility including up to 25 turbines in Guayanilla, Puerto Rico. Puerto Rican crested toads have been observed in the Punta Ventana portion of the project. The Permittee proposes installation and operation of eight wind turbines in Punta Ventana over 79 ha (195 acres) that would affect about 5.1 ha (12.6 acres) of dry forest habitat. The revised HCP includes the site plan for the project and detailed information on the areas within Punta Ventana that would be affected by the construction and operation turbine sites, connecting roads, staging areas and connection to a substation.

Next Steps

We will evaluate the ITP amendment application, including the revised HCP and any comments we receive, to determine whether the amendment application meets the requirements of section 10(a)(1)(B) of the Act. We will also evaluate whether amendment of the section 10(a)(1)(B) ITP complies with section 7 of the Act by conducting an intra-Service section 7 consultation. We will use the results of this consultation, in combination with the above findings, in our final analysis to determine whether or not to amend the ITP. If we determine that the requirements are met, we will amend the ITP to include the Puerto Rican crested toad as a covered species for incidental take.

Authority: We provide this notice under section 10 of the Act (16 U.S.C. 1531 et seq.) and NEPA regulations (40 CFR 1506.6).

Dated: February 15, 2013.
Kenneth A. Garrahan,
Acting Regional Director.

[FR Doc. 2013-05594 Filed 3-11-13; 8:45 am]

BILLING CODE 4310-55-P